DEPARTMENT OF ENERGY

Federal Energy Regulatory Commission

[Project No. 13848-001]

Qualified Hydro 27, LLC; Notice of Intent To File License Application, Filing of Pre-Application Document, and Approving Use of the Traditional Licensing Process

a. Type of Filing: Notice of Intent to File License Application and Request to Use the Traditional Licensing Process.

b. Project No.: 13848-001.

c. Date Filed: January 4, 2012.

d. Submitted By: Qualified Hydro 27, LLC.

e. Name of Project: Howard A. Hanson Dam Hydroelectric Project.

f. Location: On the Green River, in King County, Washington. The project occupies 5 acres of United States lands administered by the U.S. Bureau of Reclamation.

g. Filed Pursuant to: 18 CFR 5.3 of the Commission's regulations.

h. Potential Applicant Contact: Ramya Swaminathan, Free Flow Power Corporation, 239 Causeway Street, Suite 300, Boston, MA 02114; (978) 283-2822.

i. FERC Contact: Kelly Wolcott at (202) 502-6480; or email at kelly.wolcott@ferc.gov.

j. Qualified Hydro 27, LLC filed its request to use the Traditional Licensing Process on January 4, 2012. Qualified Hydro 27, LLC provided public notice of its request on December 28, 2011. In a letter dated March 1, 2012, the Director of the Division of Hydropower Licensing approved Qualified Hydro 27, LLC's request to use the Traditional Licensing Process.

k. With this notice, we are initiating informal consultation with: (a) The U.S. Fish and Wildlife Service and/or NOAA Fisheries under section 7 of the Endangered Species Act and the joint agency regulations thereunder at 50 CFR, Part 402; (b) NOAA Fisheries under section 305(b) of the Magnuson-Stevens Fishery Conservation and Management Act and implementing regulations at 50 CFR 600.920; and (c) the Washington State Historic Preservation Officer, as required by section 106, National Historical Preservation Act, and the implementing regulations of the Advisory Council on Historic Preservation at 36 CFR 800.2.

l. With this notice, we are designating Qualified Hydro 27, LLC as the Commission's non-federal representative for carrying out informal consultation, pursuant to section 7 of the Endangered Species Act, section 305 of the Magnuson-Stevens Fishery Conservation and Management Act, and section 106 of the National Historic Preservation Act.

m. Qualified Hydro 27, LLC filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659. A copy is also available for inspection and reproduction at the address in paragraph h.

o. Register online at http://www.ferc.gov/docs-filing/esubscription.asp to be notified via email of new filing and issuances related to this or other pending projects. For assistance, contact FERC Online Support.

Dated: March 1, 2012.
Kimberly D. Bose,
Secretary.

[FR Doc. 2012-5536 Filed 3-6-12; 8:45 am]

BILLING CODE 6717-01-P